DEPARTMENT OF THE INTERIOR

Bureau of Land Management

[LLWO600000.L18200000.XH0000]

Third Call for Nominations for Advisory Committees; Montana, Oregon, and Washington

AGENCY: Bureau of Land Management, Interior.

ACTION: Notice.

SUMMARY: The purpose of this notice is to reopen the request for public nominations for certain Bureau of Land Management (BLM) Advisory Committees that have member terms expiring this year. These Advisory Committees provide advice and recommendations to the BLM on land use planning and management of the National System of Public Lands within their respective geographic areas. The Advisory Committees covered by this request for nominations are identified below. The BLM will accept public nominations for 30 days after the publication of this notice.

DATES: All nominations must be received no later than July 21, 2014.

ADDRESSES: See SUPPLEMENTARY INFORMATION for the address of respective BLM Offices accepting nominations.

FOR FURTHER INFORMATION CONTACT: Lauren Luckey, U.S. Department of the Interior, Bureau of Land Management, WO-610, Public Affairs Division, 20 M Street SE., #6281, Washington, DC 20003, 202-912-7422.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, Resource Advisory Council (RAC) membership must be balanced and representative of the various interests concerned with the management of the public lands. The rules governing RACs are found at 43 CFR subpart 1784 and include the following three membership categories:

Category One—Holders of Federal grazing permits and representatives of organizations associated with energy and mineral development, timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Individuals may nominate themselves or others. Nominees must be residents of the state in which the RAC has jurisdiction. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

This request for public nominations also applies to the Steens Mountain Advisory Council (SMAC) in Oregon established pursuant to Section 131 of the Steens Mountain Cooperative Management and Protection Act of 2000. The SMAC advises the Secretary of the Interior in managing the Steens Mountain Cooperative Management and Protection Area.

The following must accompany all nominations for the RACs and SMAC:

—Letters of reference from represented interests or organizations;

—A completed Resource Advisory Council application; and

—Any other information that addresses the nominee's qualifications.

Simultaneous with this notice, BLM state offices will issue press releases providing additional information for submitting nominations, with specifics about the number and categories of member positions available for each RAC in the state and the Steens Mountain Advisory Council in Oregon. If you have already submitted your RAC nomination materials for 2014 you will not need to resubmit. Nominations for the following RACs should be sent to the appropriate BLM offices as noted below:

Montana and Dakotas

Central Montana RAC

Jonathan Moor, Lewistown Field Office, BLM, 920 Northeast Main Street, Lewistown, Montana 59457, (406) 538-1943.

Western Montana RAC

David Abrams, Butte Field Office, BLM, 106 North Parkmont, Butte, Montana 59701, (406) 533-7617.

Oregon/Washington

Eastern Washington RAC; Southeast Oregon RAC; Steens Mountain Advisory Council, Stephen Baker, Oregon State Office, BLM, 1220 SW. 3rd Avenue, Portland, Oregon 97204, (503) 808-6306.

Authority: 43 CFR 1784.4-1.

Dated: June 12, 2014.
Steve Ellis,
Deputy Director, Operations.

[FR Doc. 2014-14437 Filed 6-19-14; 8:45 am]

BILLING CODE 4310-84-P